Title 3—

The President

Proclamation 8315 of October 31, 2008

National Adoption Month, 2008

By the President of the United States of America

A Proclamation

During National Adoption Month, we recognize the compassion of adoptive and foster families as we seek to raise awareness of the need for every child in America to have a safe, loving, and permanent home.

Adopting a child is a great joy and also a great responsibility. Parents are a child's first teachers, and adoptive families can help children learn character and values, the importance of giving back to their community and country, and the courage to realize their potential. On November 15, caring parents across our Nation will celebrate National Adoption Day by finalizing their adoptions and bringing home children in need of a hopeful life.

My Administration is committed to helping young people find the love, stability, and support that a family can provide. We have joined with community and faith-based organizations to raise public awareness of foster children awaiting adoption. With the help of the Congress, we are assisting families in overcoming the financial barriers to adopting children through programs such as the Adoption Incentives Program. In addition, the Collaboration to AdoptUsKids project, which can be found at adoptuskids.org, provides guidance and resources for parents exploring adoption.

During National Adoption Month, we honor adoptive and foster parents who have shown America the depth and kindness of the human heart. Their love and dedication inspire the next generation of Americans to achieve their dreams and demonstrate the true spirit of our Nation.

NOW, THEREFORE, I, GEORGE W. BUSH, President of the United States of America, by virtue of the authority vested in me by the Constitution and laws of the United States, do hereby proclaim November 2008 as National Adoption Month. I call upon all Americans to observe this month with appropriate programs and activities to honor adoptive families and to participate in efforts to find permanent homes for waiting children.

IN WITNESS WHEREOF, I have hereunto set my hand this thirty-first day of October, in the year of our Lord two thousand eight, and of the Independence of the United States of America the two hundred and thirty-third.

[FR Doc. E8-26522

Filed 11-4-08; 8:45 am]

Billing code 3195-W9-P